DEPARTMENT OF ENERGY

Federal Energy Regulatory Commission

[Docket No. RP01-182-000]

Texas Eastern Transmission Corporation; Notice of Proposed Changes in FERC Gas Tariff

December 13, 2000.

Take notice that on December 7, 2000, Texas Eastern Transmission Corporation (Texas Eastern) tendered for filing as part of its FERC Gas Tariff, Sixth Revised Volume No. 1, the revised tariff sheets listed on Appendix A to the filing, to become effective on January 7, 2001.

Texas Eastern states that the purpose of this filing is to make the benefits and opportunities of e-commerce available to Texas Eastern's existing and potential customers and to advance the Commission objectives as expressed in Order Nos. 637, et seq. of providing equality between the pipeline services and capacity release transactions.

Texas Eastern states that the proposed tariff modifications permit customers to request service agreements electronically and to execute such contracts on line via the LINKr System, which will facilitate nominations and increase the efficiency and convenience of the Texas Eastern contracting process for all customers. Texas Eastern also states that as part of the proposed enhancement to the Texas Eastern contracting process, this filing also modifies certain tariff provisions to expedite the net present value (NPV) contract request and contract execution processes.

Texas Eastern also states that copies of the filing were mailed to all affected customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-32276 Filed 12-18-00; 8:45 am]

BILLING CODE 6717-01-M